DEPARTMENT OF THE INTERIOR

Fish and Wildlife Service

[FWS-R8-ES-2010-N060; 80221-1113-0000-C4]

Endangered and Threatened Wildlife and Plants; Initiation of 5-Year Reviews of 34 Species in California and Nevada; Availability of 96 Completed 5-Year Reviews in California and Nevada

AGENCY: Fish and Wildlife Service, Interior.

ACTION: Notice of initiation of 5-year reviews; availability of completed 5-year reviews.

SUMMARY: We, the U.S. Fish and Wildlife Service, are initiating 5-year reviews for 34 species under the Endangered Species Act of 1973, as amended (Act). We request any new information on these species that may have a bearing on their classification as endangered or threatened. Based on the results of these 5-year reviews, we will make a finding on whether these species are properly classified under the Act. We also announce in this notice 96 completed 5-year reviews for species in California and Nevada in Fiscal Year (FY) 2009 and early (FY) 2010.

DATES: To allow us adequate time to conduct these reviews, we must receive your information no later than July 20, 2010. However, we will continue to accept new information about any listed species at any time.

ADDRESSES: For instructions on how to submit information and review the information that we receive on these species, see “Request for New Information.”

FOR FURTHER INFORMATION CONTACT: For species-specific information, contact the appropriate person listed under “Request for New Information.” For contact information about completed 5-year reviews, see “Completed 5-Year Reviews.” Individuals who are hearing-impaired or speech-impaired may call the Federal Relay Service at (800) 877-8337 for TTY assistance.

SUPPLEMENTARY INFORMATION:

Why do we conduct a 5-year review?

Under the Endangered Species Act (Act) (16 U.S.C. 1531 et seq.), we maintain a List of Endangered and Threatened Wildlife and Plants at 50 CFR 17.11 (for animals) and 17.12 (for plants) (List). We amend the List by publishing final rules in the Federal Register. Section 4(c)(2)(A) of the Act requires that we conduct a review of listed species at least once every 5 years. Section 4(c)(2)(B) requires that we determine (1) Whether a species no longer meets the definition of threatened or endangered and should be removed from the List (delisted); (2) whether a species listed as endangered more properly meets the definition of threatened and should be reclassified to threatened; or (3) whether a species listed as threatened more properly meets the definition of endangered and should be reclassified to endangered. Using the best scientific and commercial data available, we will consider a species for delisting if the data substantiate that the species is neither endangered nor threatened for one or more of the following reasons: (1) The species is considered extinct; (2) the species is considered to be recovered; and/or (3) the original data available when the species was listed, or the interpretation of such data, were in error. Any change in Federal classification requires a separate rulemaking process. We are requesting submission of any new information (best scientific and commercial data) on these species since they were originally listed or since the species' most recent status review.

Our regulations in the Code of Federal Regulations (CFR) at 50 CFR 424.21 require that we publish a notice in the Federal Register announcing those species currently under review. This notice announces initiation of our active review of 34 species in California, and Nevada (Table 1).

Table 1—Summary of Listing Information, 16 Animal Species and 18 Plant Species in California and Nevada
Common name | Scientific name | Status | Where listed | Final listing rule
ANIMALS
Buena Vista Lake ornate shrew | Sorex ornatus relictus | Endangered | U.S.A. (CA) | 67 FR 10101; 3/6/2002.
California clapper rail | Rallus longirostris obsoletus | Endangered | U.S.A. (CA) | 35 FR 16047; 10/13/1970.
California least tern | Sternula (Sterna) antillarum browni | Endangered | U.S.A. (CA) | 35 FR 8495; 06/02/1970.
California tiger salamander | Ambystoma californiense | Endangered | U.S.A. (CA—Sonoma County) | FR 63 13497; 3/19/2003.
Cui-ui | Chasmistes cujus | Endangered | U.S.A. (NV) | 32 FR 4001; 03/11/1967.
Island night lizard | Xantusia riversiana | Threatened | U.S.A. (CA) | 42 FR 40685; 08/11/1977.
Least Bell's vireo | Vireo bellii pusillus | Endangered | U.S.A. (CA) | 51 FR 16482; 05/02/1986.
Little Kern golden trout | Oncorhynchus aguabonita whitei | Threatened | U.S.A. (CA) | 43 FR 15427; 4/13/1978.
Morro Bay kangaroo rat | Dipodomys heermanni morroensis | Endangered | U.S.A. (CA) | 35 FR 16047, 10/13/1970.
Mountain yellow-legged frog | Rana muscosa | Endangered | U.S.A. (CA) | 67 FR 44382; 07/02/2002.
Riparian brush rabbit | Sylvilagus bachmani riparius | Endangered | U.S.A. (CA) | 65 FR 8881; 2/23/2000.
Riparian woodrat (=San Joaquin Valley) | Neotoma fuscipes riparia | Endangered | U.S.A. (CA) | 65 FR 8881; 2/23/2000.
Santa Catalina Island fox | Urocyon littoralis catalinae | Endangered | U.S.A. (CA) | 69 FR 10335; 3/5/2004.
Santa Cruz Island fox | Urocyon littoralis santacruzae | Endangered | U.S.A. (CA) | 69 FR 10335, 3/5/2004.
San Miguel Island fox | Urocyon littoralis littoralis | Endangered | U.S.A. (CA) | 69 FR 10335, 3/5/2004.
Santa Rosa Island fox | Urocyon littoralis santarosae | Endangered | U.S.A. (CA) | 69 FR 10335, 3/5/2004.
PLANTS
Ash Meadows sunray | Enceliopsis nudicaulis var. corrugata | Threatened | U.S.A. (NV) | 50 FR 20777 20794; 05/20/1985.
Baker's larkspur | Delphinium bakeri | Endangered | U.S.A. (CA) | 65 FR 4162; 1/26/2000.
Hidden Lake bluecurls | Trichostema austromontanum ssp. compactum | Endangered | U.S.A. (CA) | 63 FR 49006; 09/14/1998.
Gaviota tarplant | Deinandra increscens ssp. villosa | Endangered | U.S.A. (CA) | 65 FR 14888, 3/20/2000.
Island malacothrix | Malacothrix squalida | Endangered | U.S.A. (CA) | 61 FR 40954, 7/31/1997.
La Graciosa thistle | Cirsium loncholepis | Endangered | U.S.A. (CA) | 65 FR 14888, 3/20/2000.
Lompoc yerba santa | Eriodictyon capitatum | Endangered | U.S.A. (CA) | 65 FR 14888, 3/20/2000.
Presidio manzanita | Arctostaphylos hookeri var. ravenii | Endangered | U.S.A. (CA) | 44 FR 61911; 11/26/1979.
San Clemente Island bush mallow | Malacothamnus clementinus | Endangered | U.S.A. (CA) | 42 FR 40682; 08/11/1977.
San Clemente Island Indian paintbrush | Castilleja grisea | Endangered | U.S.A. (CA) | 42 FR 40682; 08/11/1977.
San Clemente Island larkspur | Delphinium variegatum ssp. kinkiense | Endangered | U.S.A. (CA) | 42 FR 40682; 08/11/1977.
San Clemente Island lotus (broom) | Lotus dendroideus var. traskiae | Endangered | U.S.A. (CA) | 42 FR 40682; 08/11/1977.
San Clemente Island woodland star | Lithophragma maximum | Endangered | U.S.A. (CA) | 62 FR 42692; 08/08/1997.
Santa Cruz Island malacothrix | Malacothrix indecora | Endangered | U.S.A. (CA) | 61 FR 40954, 7/31/1997.
Santa Cruz Island rockcress | Sibara filifola | Endangered | U.S.A. (CA) | 62 FR 42692; 08/08/1997.
Santa Cruz tarplant | Holocarpha macradenia | Threatened | U.S.A. (CA) | 65 FR 14898, 3/20/2000.
San Francisco lessingia | Lessingia germanorum (=L.g. var. germanorum) | Endangered | U.S.A. (CA) | 62 FR 33373; 6/19/1997.
Yellow larkspur | Delphinium luteum | Endangered | U.S.A. (CA) | 65 FR 4162; 1/26/2000.

What information do we consider in the review?

In our 5-year review, we consider all new information available at the time of the review. In conducting these reviews, we consider the best scientific and commercial data that has become available since the current listing determination or the most recent status review, such as—(A) Species biology including, but not limited to, population trends, distribution, abundance, demographics, and genetics; (B) Habitat conditions including, but not limited to, amount, distribution, and suitability; (C) Conservation measures that have been implemented that benefit the species; (D) Threat status and trends (see the five factors under the heading “How Do We Determine Whether a Species is Endangered or Threatened?”); and (E) Other new information, data, or corrections including, but not limited to, taxonomic or nomenclatural changes, identification of erroneous information contained in the List, and improved analytical methods.

Request for New Information

We request any new information concerning the status of these wildlife and plant species. See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of these species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we request recommendations pertaining to the development of, or potential updates to, recovery plans and additional actions or studies that would benefit these species in the future.

Our practice is to make information, including names and home addresses of respondents, available for public review. Before including your address, telephone number, e-mail address, or other personal identifying information in your response, you should be aware that your entire submission—including your personal identifying information—may be made publicly available at any time. While you can ask us in your response to withhold your personal identifying information from public review, we cannot guarantee that we will be able to do so. We will not consider anonymous comments. To the extent consistent with applicable law, we will make all submissions from organizations or businesses, and from individuals identifying themselves as representatives or officials of organizations or businesses, available for public inspection in their entirety. Comments and materials received will be available for public inspection, by appointment, during normal business hours at the offices where the comments are submitted.

Please mail or hand-deliver information on the following species to the U.S. Fish and Wildlife Service at the corresponding address below. You my also view information we receive in response to this notice, as well as other documentation in our files, at the following locations by appointment, during normal business hours.

For the California least tern, Island night lizard, Least Bell's vireo, Mountain yellow-legged frog, Santa Catalina Island fox, Hidden Lake bluecurls, San Clemente Island bush mallow, San Clemente Island Indian paintbrush, San Clemente Island larkspur, San Clemente Island lotus (broom), San Clemente Island woodland star, and Santa Cruz Island rock-cress, send information to Field Supervisor, Attention: 5-Year Review, U.S. Fish and Wildlife Service, Carlsbad Fish and Wildlife Office, 6010 Hidden Valley Road, Carlsbad, CA 92011. Information may also be submitted electronically at fw8cfwocomments@fws.gov. To obtain further information, contact Scott Sobiech at the Carlsbad Fish and Wildlife Office at (760) 431-9440.

For the Buena Vista Lake ornate shrew, California clapper rail, California tiger salamander, Little Kern golden trout, Riparian brush rabbit, Riparian woodrat (San Joaquin Valley), Baker's larkspur, Presidio manzanita, San Francisco lessingia, and Yellow larkspur, send information to Field Supervisor, Attention: 5-Year Review, U.S. Fish and Wildlife Service, Sacramento Fish and Wildlife Office, 2800 Cottage Way, Room W-2605, Sacramento, CA 95825. Information may also be submitted electronically at fw1sfo5year@fws.gov. To obtain further information, contact Kirsten Tarp at the Sacramento Fish and Wildlife Office at (916) 414-6600.

For the Morro Bay Kangaroo rat, Santa Cruz Island fox, San Miguel Island fox, Santa Rosa Island fox, Gaviota tarplant, Island malacothrix, La Graciosa thistle, Lompoc Yerba Santa, Santa Cruz Island malacothrix, and Santa Cruz tarplant, send information to Field Supervisor, Attention: 5-Year Review, U.S. Fish and Wildlife Service, Ventura Fish and Wildlife Office, 2493 Portola Road, Suite B, Ventura, CA 93003. Information may also be submitted electronically at fw1vfwo5year@fws.gov. To obtain further information on the animal species, contact Mike McCrary at the Ventura Fish and Wildlife Office at (805) 644-1766. To obtain further information on the plant species, contact Connie Rutherford at the Ventura Fish and Wildlife Office at (805) 644-1766.

For the Cui-ui, and Ash Meadows sunray, send information to Field Supervisor, Attention: 5-Year Review, U.S. Fish and Wildlife Service, Nevada Fish and Wildlife Office, 1340 Financial Blvd., Suite 234, Reno, Nevada 89502-7147. Information may also be submitted electronically at fw1nfwo_5yr@fws.gov. To obtain further information on the Cui-ui, contact Selena Werdon at the Nevada Fish and Wildlife Office at (775) 861-6300. To obtain further information on the Ash Meadows sunray, contact Steve Caicco at the Nevada Fish and Wildlife Office at (775) 861-6300.

All electronic information must be submitted in Text format or Rich Text format. Include the following identifier in the subject line of the e-mail: Information on 5-year review for [NAME OF SPECIES], and include your name and return address in the body of your message.

How are these species currently listed?

The current listing status of each species for which we are initiating 5-year reviews in this notice is in Table 1 above. The current status may also be found on the List, which covers all endangered and threatened species, and which is available on our Internet site at http://endangered.fws.gov/wildlife.html#Species.

Definitions

To help you submit information about the species we are reviewing, we provide the following definitions:

Species includes any species or subspecies of fish, wildlife, or plant, and any distinct population segment of any species of vertebrate, which interbreeds when mature.

Endangered species means any species that is in danger of extinction throughout all or a significant portion of its range.

Threatened species means any species that is likely to become an endangered species within the foreseeable future throughout all or a significant portion of its range.

Experimental population means any population (including any offspring arising solely therefrom) authorized by the Secretary of the Interior for release outside the current range of nonexperimental populations of the same species, but only when, and at such times as, the population is wholly separate geographically from nonexperimental populations of the same species. Each member of a nonessential experimental population shall be treated, except when it occurs in an area within the National Wildlife Refuge System or the National Park System, as a species proposed to be listed under section 4 of the Endangered Species Act.

How do we determine whether a species is endangered or threatened?

Section 4(a)(1) of the Act requires that we determine whether a species is endangered or threatened based on one or more of the five following factors: (A) The present or threatened destruction, modification, or curtailment of its habitat or range; (B) Overutilization for commercial, recreational, scientific, or educational purposes; (C) Disease or predation; (D) The inadequacy of existing regulatory mechanisms; or (E) Other natural or manmade factors affecting its continued existence. Section 4(b)(1)(A) of the Act requires that our determination be made on the basis of the best scientific and commercial data available.

What could happen as a result of our review?

For each species under review, if we find new information that indicates a change in classification may be warranted, we may propose a new rule that could do one of the following: (a) Reclassify the species from threatened to endangered (uplist); (b) reclassify the species from endangered to threatened (downlist); or (c) remove the species from the List (delist). If we determine that a change in classification is not warranted, then the species will remain on the List under its current status.

Completed 5-Year Reviews

We also take this opportunity to inform the public of 96 5-year reviews that we completed in FY 2009 and early FY 2010 for species in California and Nevada (Table 2). These 96 reviews can be found at http://www.fws.gov/cno/es/5yr.html. Any recommended change in listing status resulting from these completed reviews will require a separate rulemaking process.

Table 2—Summary of 96 Species in California and Nevada for Which 5-Year Reviews Were Completed in FY 2009 and Early FY 2010
Common name | Scientific name | Recommendation | Lead fish and wildlife office | Contact
ANIMALS
Ash Meadows Amargosa Pupfish | Cyprinodon nevadensis mionectes | No status change | Nevada | Jeannie Stafford; (775) 861-6300.
Arroyo toad | Bufo californicus (= microscaphus) | Downlist | Ventura | Lois Grunwald; (805) 644-1766.
Amargosa vole | Microtus californicus scirpensis | No status change | Ventura | Lois Grunwald; (805) 644-1766.
Bay checkerspot butterfly | Euphydryas editha bayensis | Uplist | Sacramento | Al Donner; (916) 414-6600.
Blunt-nosed leopard lizard | Gambelia silus | No status change | Sacramento | Al Donner; (916) 414-6600.
Callippe silverspot butterfly | Speyeria callippe callippe | No status change | Sacramento | Al Donner; (916) 414-6600.
Delta green ground beetle | Elaphrus viridis | No status change | Sacramento | Al Donner; (916) 414-6600.
Desert slender salamander | Batrachoseps aridus | No status change | Carlsbad | Jane Hendron; (760) 431-9440.
Fresno kangaroo rat | Dipodomys nitratoides exilis | No status change | Sacramento | Al Donner; (916) 414-6600.
Giant kangaroo rat | Dipodomys ingens | No status change | Sacramento | Al Donner; (916) 414-6600.
Lahontan cutthroat trout | Oncorhynchus clarkii henshawi | No status change | Nevada | Jeannie Stafford; (775) 861-6300.
Light-footed clapper rail | Rallus longirostris levipes | No status change | Carlsbad | Jane Hendron; (760) 431-9440.
Mission blue butterfly | Icaricia icarioides missionensis | No status change | Sacramento | Al Donner; (916) 414-6600.
Modoc sucker | Catostomus microps | Downlist | Klamath | Matt Baun; (530) 842-5763.
Mohave tui chub | Gila bicolor mohavensis | No status change | Ventura | Lois Grunwald; (805) 644-1766.
Mount Hermon June beetle | Polyphylla barbata | No status change | Ventura | Lois Grunwald; (805) 644-1766.
Myrtle's silverspot butterfly | Speyeria zerene myrtleae | No status change | Sacramento | Al Donner; (916) 414-6600.
Ohlone tiger beetle | Cicindela ohlone | No status change | Ventura | Lois Grunwald; (805) 644-1766.
Owens pupfish | Cyprinodon radiosus | No status change | Ventura | Lois Grunwald; (805) 644-1766.
Owens tui chub | Siphateles bicolor snyderi (= Gila bicolor snyderi) | No status change | Ventura | Lois Grunwald; (805) 644-1766.
Point Arena mountain beaver | Aplodontia rufa nigra | No status change | Arcata | Matt Baun; (530) 842-5763.
Quino checkerspot butterfly | Euphydryas editha quino | No status change | Carlsbad | Jane Hendron; (760) 431-9440.
Railroad valley springfish | Crenicthys nevadae | No status change | Nevada | Jeannie Stafford; (775) 861-6300.
Salt marsh harvest mouse | Reithrodontomys raviventris | No status change | Sacramento | Al Donner; (916) 414-6600.
San Bernardino Merriam's kangaroo rat | Dipodomys merriami parvus | No status change | Carlsbad | Jane Hendron; (760) 431-9440.
San Bruno elfin butterfly | Callophrys mossii bayensis | No status change | Sacramento | Al Donner; (916) 414-6600.
San Clemente sage sparrow | Amphispiza belli clementeae | No status change | Carlsbad | Jane Hendron; (760) 431-9440.
San Joaquin kit fox | Vulpes macrotis mutica | No status change | Sacramento | Al Donner; (916) 414-6600.
Santa Barbara County DPS of California tiger salamander | Ambystoma californiense | No status change | Ventura | Lois Grunwald; (805) 644-1766.
Santa Cruz long-toed salamander | Ambystoma macrodactylum croceum | No status change | Ventura | Lois Grunwald; (805) 644-1766.
Shasta crayfish | Pacifastacus fortis | No status change | Sacramento | Al Donner; (916) 414-6600.
Tipton kangaroo rat | Dipodomys nitratoides nitratoides | No status change | Sacramento | Al Donner; (916) 414-6600.
White River spinedace | Lepidomeda albivallis | No status change | Nevada | Jeannie Stafford; (775) 861-6300.
Unarmored threespine stickleback | Gasterosteus aculeatus williamsoni | No status change | Ventura | Lois Grunwald; (805) 644-1766.
Zayante band-winged grasshopper | Trimerotropis infantilis | No status change | Ventura | Lois Grunwald; (805) 644-1766.
PLANTS
Applegate's milk-vetch | Astragalus applegatei | No status change | Klamath | Matt Baun; (530) 842-5763.
Ash Meadows milk-vetch | Astragalus phoenix | No status change | Nevada | Jeannie Stafford; (775) 861-6300.
Braunton's milk-vetch | Astragalus brauntonii | No status change | Ventura | Lois Grunwald; (805) 644-1766.
California sea-blite | Suaeda californica | No status change | Ventura | Lois Grunwald; (805) 644-1766.
Calistoga allocaraya | Plagiobothrys strictus | No status change | Sacramento | Al Donner; (916) 414-6600.
Clara Hunt's milk-vetch | Astragalus clarianus | No status change | Sacramento | Al Donner; (916) 414-6600.
Clover lupine | Lupinus tidestromii | No status change | Sacramento | Al Donner; (916) 414-6600.
Coachella Valley milk-vetch | Astragalus lentiginosus var. coachellae | No status change | Carlsbad | Jane Hendron; (760) 431-9440.
Coastal dunes milk-vetch | Astragalus tener var. titi | No status change | Ventura | Lois Grunwald; (805) 644-1766.
Conejo dudleya | Dudleya abramsii ssp. parva (= Dudleya parva) | No status change | Ventura | Lois Grunwald; (805) 644-1766.
Cushenbury buckwheat | Eriogonum ovalifolium var. vineum | No status change | Carlsbad | Jane Hendron; (760) 431-9440.
Cushenbury milk-vetch | Astragalus albens | No status change | Carlsbad | Jane Hendron; (760) 431-9440.
Cushenbury oxytheca | Oxytheca parishii var. goodmaniana (= Acanthoscyphus parishii var. goodmaniana) | No status change | Carlsbad | Jane Hendron; (760) 431-9440.
Fish slough milk-vetch | Astragalus lentiginosus var. piscinensis | No status change | Ventura | Lois Grunwald; (805) 644-1766.
Hairy orcutt grass | Orcuttia pilosa | No status change | Sacramento | Al Donner; (916) 414-6600.
Hickman's potentilla | Potentilla hickmanii | No status change | Ventura | Lois Grunwald; (805) 644-1766.
Hoffmann's slender-flowered gilia | Gilia tennuiflora ssp. hoffmannii | No status change | Ventura | Lois Grunwald; (805) 644-1766.
Hoover's spurge | Chamaesyce hooveri | No status change | Sacramento | Al Donner; (916) 414-6600.
Indian Knob mountainbalm | Eriodictyon altissimum | Downlist | Ventura | Lois Grunwald; (805) 644-1766.
Island bedstraw | Galium buxifolium | No status change | Ventura | Lois Grunwald; (805) 644-1766.
Kenwood Marsh checkermallow | Sidalcea oregana ssp. valida | No status change | Sacramento | Al Donner; (916) 414-6600.
Lake County stonecrop | Parvisedum leiocarpum (= Sedella leiocarpa) | No status change | Sacramento | Al Donner; (916) 414-6600.
Large-flowered fiddleneck | Amsinckia grandiflora | No status change | Sacramento | Al Donner; (916) 414-6600.
Loch Lomond coyote thistle | Eryngium constancei | No status change | Sacramento | Al Donner; (916) 414-6600.
Many-flowered navarretia | Navarretia leucocephala ssp. Plieantha | No status change | Sacramento | Al Donner; (916) 414-6600.
Marcescent dudleya | Dudleya cymosa ssp. marcescens | No status change | Ventura | Lois Grunwald; (805) 644-1766.
Mexican flannelbush | Fremontodendron mexicanum | No status change | Carlsbad | Jane Hendron; (760) 431-9440.
Monterey clover | Trifolium trichocalyx | No status change | Ventura | Lois Grunwald; (805) 644-1766.
Monterey spineflower | Chorizanthe pungens var. pungens | No status change | Ventura | Lois Grunwald; (805) 644-1766.
Napa bluegrass | Poa napensis | No status change | Sacramento | Al Donner; (916) 414-6600.
Nevin's barberry | Berberis nevinii | No status change | Carlsbad | Jane Hendron; (760) 431-9440.
Nipomo lupine | Lupinus nipomensis | No status change | Ventura | Lois Grunwald; (805) 644-1766.
Palmate-bracted bird's-beak | Cordylanthus palmatus (= Chloropyron palmatum) | No status change | Sacramento | Al Donner; (916) 414-6600.
Parish's daisy | Erigeron parishii | No status change | Carlsbad | Jane Hendron; (760) 431-9440.
Pismo clarkia | Clarkia speciosa ssp. immaculata | No status change | Ventura | Lois Grunwald; (805) 644-1766.
Pitkin Marsh lily | Lilium pardalinum ssp. pitkinense | No status change | Sacramento | Al Donner; (916) 414-6600.
Robust spineflower | Chorizanthe robusta | No status change | Ventura | Lois Grunwald; (805) 644-1766.
Salt marsh bird's-beak | Chloropyron maritimum ssp. maritimum (Cordylanthus maritimus ssp. maritimus) | No status change | Carlsbad | Jane Hendron; (760) 431-9440.
San Benito evening-primrose | Camissonia benitensis | No status change | Ventura | Lois Grunwald; (805) 644-1766.
San Bernadino Mountains bladderpod | Physaria (Lesquerella) kingii ssp. bernardina | No status change | Ventura | Lois Grunwald; (805) 644-1766.
San Diego thornmint | Acanthomintha ilicifolia | No status change | Carlsbad | Jane Hendron; (760) 431-9440.
Santa Cruz cypress | Cupressus abramsiana (= Callitropsis abramsiana) | Downlist | Ventura | Lois Grunwald; (805) 644-1766.
Santa Cruz Island dudleya | Dudleya nesiotica | No status change | Ventura | Lois Grunwald; (805) 644-1766.
Santa Cruz Island fringepod | Thysanocarpus conchuliferus | No status change | Ventura | Lois Grunwald; (805) 644-1766.
Santa Monica Mountains dudleya | Dudleya cymosa ssp. ovatifolia | No status change | Ventura | Lois Grunwald; (805) 644-1766.
Scotts Valley polygonum | Polygonum hickmanii | No status change | Ventura | Lois Grunwald; (805) 644-1766.
Scotts Valley spineflower | Chorizanthe robusta var. hartwegii | No status change | Ventura | Lois Grunwald; (805) 644-1766.
Slender orcutt grass | Orcuttia tenuis | No status change | Sacramento | Al Donner; (916) 414-6600.
Spreading navarretia | Navarretia fossalis | No status change | Carlsbad | Jane Hendron; (760) 431-9440.
Spring-loving centaury | Centaurium namophilum | No status change | Nevada | Jeannie Stafford; (775) 861-6300.
Springville clarkia | Clarkia springvillensis | No status change | Sacramento | Al Donner; (916) 414-6600.
Soft bird's-beak | Cordylanthus mollis ssp. mollis | No status change | Sacramento | Al Donner; (916) 414-6600.
Solano grass | Orcuttia mucronata (= Tuctoria mucronata) | No status change | Sacramento | Al Donner; (916) 414-6600.
Steamboat buckwheat | (Eriogonum ovalifolium var. williamsiae | No status change | Nevada | Jeannie Stafford; (775) 861-6300.
Suisun thistle | Cirsium hydrophilum var. hydrophilum | No status change | Sacramento | Al Donner; (916) 414-6600.
Thread-leaved brodiaea | Brodiaea filifolia | No status change | Carlsbad | Jane Hendron; (760) 431-9440.
Triple-ribbed milk-vetch | Astragalus tricarinatus | No status change | Carlsbad | Jane Hendron; (760) 431-9440.
Verity's dudleya | Dudleya verityi | No status change | Ventura | Lois Grunwald; (805) 644-1766.
Western lily | Lilium occidentale | No status change | Arcata | Matt Baun; (530) 842-5763.
White sedge | Carex albida | No status change | Sacramento | Al Donner; (916) 414-6600.
Yadon's piperia | Piperia yadonii | No status change | Ventura | Lois Grunwald; (805) 644-1766.

Authority: This document is published under the authority of the Endangered Species Act of 1973, as amended (16 U.S.C. 1531 et seq.).

Dated: May 14, 2010.
Alexandra Pitts,
Regional Director, Region 8, U.S. Fish and Wildlife Service.

[FR Doc. 2010-12170 Filed 5-20-10; 8:45 am]

BILLING CODE 4310-55-P